DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The Health Education Assistance Loan (HEAL) Program Regulations (OMB No. 0915-0108)—Revision

This clearance request is for a revision to the approval of the notification, reporting and recordkeeping requirements in the HEAL program to insure that the lenders, holders and schools participating in the HEAL program follow sound management procedures in the administration of federally-insured student loans. While the regulatory requirements are approved under this OMB number, much of the burden associated with the regulations is cleared under the OMB numbers for the HEAL forms and electronic submissions used to report required information (listed below). The table listed at the end of this notice contains the estimate of burden for the remaining regulations.

Annual Response Burden for the following regulations is cleared by OMB when the reporting forms are cleared:

OMB Approval No. 0915-0034, Lender's Contract Application and Borrower Deferment Forms, and Borrower Loan Status and Loan Transfers/Purchases and Consolidation Tape Specification and Submission

Reporting

42 CFR 60.31(a), Lender annual application

42 CFR 60.38(a), Loan Reassignment

Notification

42 CFR 60.12(c)(1), Borrower deferment

OMB Approval No. 0915-0036, Lender's Application for Insurance Claim

Reporting

42 CFR 60.35(a)(1), Lender due-diligence activities

42 CFR 60.35(a)(2), Lender skip-tracing activities

42 CFR 60.40(a), Lender documentation to litigate a default

42 CFR 60.40(c)(i), (ii), and (iii), Lender default claim

42 CFR 60.40(c)(2), Lender death claim

42 CFR 60.40(c)(3), Lender disability claim

42 CFR 60.40(c)(4), Lender report of student bankruptcy

OMB Approval No. 0915-0043, Promissory Note, Repayment Schedule, Call Report

Notification

42 CFR 60.11(e), Establishment of repayment terms-borrower

42 CFR 60.11(f)(5), Borrower notice of supplemental repayment agreement

42 CFR 60.33(e), Executed note to borrower

42 CFR 60.34(b)(1), Establishment of repayment terms-lender

42 CFR 60.42(b), Lender Quarterly Report on HEAL Loans Outstanding (Call Report)

OMB Approval No. 0915-0204, Physicians Certification of Permanent and Total Disability

Reporting

42 CFR 60.39(b)(2), Holder request to Secretary to determine borrower disability

OMB Approval No. 0915-0227, Federal Health Education Assistance Loan Refinancing Application/Promissory Note

Reporting

42 CFR 60.7, Application for loan

42 CFR 60.18 Consolidation of a HEAL loan

The estimate of burden for the regulatory requirements of this clearance are as follows:

Table of Regulatory Sections and Respondent Burden
Number of respondents | Number of transactions per respond | Total transactions | Time per response (in hours) | Total burden hours
Reporting Requirements
28 Lenders | 3 | 86 | .55 | 47
190 Schools | .4 | 78 | .17 | 13
Total Reporting |  |  |  | 60
Notification Requirements
28 Lenders | 6,855 | 191,961 | .16 | 30,687
190 Schools | 2.15 | 409 | .47 | 194
7,930 Borrowers | 1 | 7,930 | .17 | 1,322
Total Notification |  |  |  | 32,203
Recordkeeping Requirements
28 Lenders | 3,184 | 89,165 | .22 | 19,974
190 Schools | 476 | 90,453 | .25 | 22,681
Total Recordkeeping |  |  |  | 42,655

Total Annual Burden: 74,918 hrs.

Written comments and recommendations concerning the proposed information collection should be sent within 30 days of this notice to: John Morrall, Human Resources and Housing Branch, Office of Management and Budget, New Executive Office Building, Room 10235, Washington, DC 20503.

Dated: December 15, 2003.
Tina M. Cheatham,
Acting Director, Division of Policy Review and Coordination.

[FR Doc. 03-31295 Filed 12-18-03; 8:45 am]

BILLING CODE 4165-15-P